DEPARTMENT OF ENERGY

Federal Energy Regulatory Commission

Combined Notice of Filings # 1

April 4, 2007.

Take notice that the Commission received the following electric rate filings.

Docket Numbers: ER07-113-002.

Applicants: Midwest Independent Transmission System Operator, Inc.; Transmission Owners of the Midwest Independent Transmission System Operator, Inc.; Midwest Stand-Alone Transmission Companies.

Description: Midwest Independent Transmission System Operator, Inc et al submit amendments to their compliance filing submitted on 1/29/07.

Filed Date: 3/23/2007.

Accession Number: 20070403-0267.

Comment Date: 5 p.m. Eastern Time on Friday, April 13, 2007.

Docket Numbers: ER07-562-001.

Applicants: Trans-Allegheny Interstate Line Company.

Description: Trans-Allegheny Interstate Line Company submits its response to the Commission deficiency letter of 3/21/07.

Filed Date: 3/30/2007.

Accession Number: 20070404-0104.

Comment Date: 5 p.m. Eastern Time on Friday, April 20, 2007.

Docket Numbers: ER07-608-001.

Applicants: Gerdau Ameristeel Energy, Inc.

Description: Gerdau Ameristeel Energy, Inc. submits an amended Electric Tariff No. 1.

Filed Date: 4/3/2007.

Accession Number: 20070403-5021.

Comment Date: 5 p.m. Eastern Time on Tuesday, April 24, 2007.

Docket Numbers: ER07-685-000.

Applicants: Fitchburg Gas & Electric Light Company.

Description: Fitchburg Gas and Electric Co submits a compliance filing to reflect FERC's recently revised accounting and financial reporting requirements re Order 668.

Filed Date: 3/30/2007.

Accession Number: 20070403-0209.

Comment Date: 5 p.m. Eastern Time on Friday, April 20, 2007.

Docket Numbers: ER07-686-000.

Applicants: Southern California Edison Company.

Description: Southern California Edison Company submits the Anza Wholesale Distribution Load Interconnection Facilities Agreement et al with Southwest Transmission Cooperative.

Filed Date: 3/30/2007.

Accession Number: 20070403-0211.

Comment Date: 5 p.m. Eastern Time on Friday, April 20, 2007.

Docket Numbers: ER07-687-000.

Applicants: New England Power Pool Participants Committee.

Description: The New England Power Pool Participants Committee submits counterpart signature pages of New England Power Pool Agreement dated as of 9/1/71 as amended & executed by Manchester Methane LLC et al.

Filed Date: 3/30/2007.

Accession Number: 20070403-0212.

Comment Date: 5 p.m. Eastern Time on Friday, April 20, 2007.

Docket Numbers: ER07-688-000.

Applicants: Entergy Arkansas, Inc.; Entergy Services, Inc.

Description: Entergy Services Inc., agent and on behalf of the Entergy Arkansas Inc. submits its Thirty-Seventh Amendment to the Power Coordination Interchange and Transmission Service Agreement etc.

Filed Date: 3/30/2007.

Accession Number: 20070403-0213.

Comment Date: 5 p.m. Eastern Time on Friday, April 20, 2007.

Docket Numbers: ER07-691-000.

Applicants: Consolidated Edison Co. of New York, Inc.

Description: Consolidated Edison Company of New York Inc. submits its Delivery Service Rate Schedule 96 and amendments to Economic Development Delivery Service Rate Schedule, FERC Rate Schedule 92.

Filed Date: 3/30/2007.

Accession Number: 20070403-0214.

Comment Date: 5 p.m. Eastern Time on Friday, April 20, 2007.

Docket Numbers: ER07-693-000.

Applicants: Entergy Services, Inc.

Description: Entergy Services, Inc. acting as agent for the Entergy Operating Co's submits an executed Network Operating Agreement & an Network Integration Transmission Service Agreement with the City of Benton, AR.

Filed Date: 3/30/2007.

Accession Number: 20070403-0217.

Comment Date: 5 p.m. Eastern Time on Friday, April 20, 2007.

Docket Numbers: ER07-695-000.

Applicants: PJM Interconnection L.L.C.

Description: PJM Interconnection LLC submits an executed Interconnection Service Agreement with PPL Shoreham Energy, LLC et al.

Filed Date: 3/30/2007.

Accession Number: 20070403-0210.

Comment Date: 5 p.m. Eastern Time on Friday, April 20, 2007.

Take notice that the Commission received the following electric securities filings:

Docket Numbers: ES07-22-001.

Applicants: PJM Interconnection, L.L.C.

Description: PJM Interconnection, LLC submits an application for authority to continue to borrow funds from the Unsecured Notes for a revolving line of credit up to $50 million etc.

Filed Date: 3/30/2007.

Accession Number: 20070403-0208.

Comment Date: 5 p.m. Eastern Time on Wednesday, April 11, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Philis J. Posey,
Acting Secretary.

[FR Doc. E7-6720 Filed 4-9-07; 8:45 am]

BILLING CODE 6717-01-P